DEPARTMENT OF THE INTERIOR

Bureau of Land Management

[ID-957-1430-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative needs of the Bureau of Land Management. The lands we surveyed are:

The plat representing the dependent resurvey of a portion of the west boundary, a portion of the subdivisional lines, Mineral Survey No. 907B, and the 1891 meanders of the Salmon River in section 19, and the subdivision of section 19, the survey of the 2000-2002 meanders of the Salmon River in section 19, the survey of 2000-2002 meanders of certain islands in the Salmon River in section 19, the survey of the 2000-2002 fixed and limiting boundary on an island in the Salmon River in section 19, and the survey of the 2000-2002 partition line between lots 5 and 15 in section 19, in T. 23 N., R. 22 E., Boise Meridian, Idaho, was accepted October 31, 2002.

The plat representing the dependent resurvey of a portion of the south boundary, the subdivisional lines, and the 1891 meanders of the right bank of the Salmon River in section 35, and the survey of the 2001 meanders of the right bank of the Salmon River and partition lines in section 35, in T. 20 N., R. 21 E., Boise Meridian, Idaho was accepted November 6, 2002.

The plat representing the corrective dependent resurvey of portions of the east boundary, subdivisional lines, original 1897 meanders of the left and right banks of the Snake River in section 25, and of the subdivision of section 25, and the dependent resurvey of a portion of the subdivisional lines and original 1897 meanders of the left bank of the Snake River in section 24, and the further subdivision of section 25 and the survey of the 2001-2002 meanders of Rock Island, designated as lot 9 in section 25, in T. 10 S., R. 21 E., Boise Meridian, Idaho, was accepted November 7, 2002.

The plat constitutes the entire survey record of the dependent resurvey of portions of the west boundary and subdivisional lines, and the metes-and-bounds survey in section 19, in T. 3 N., R. 30 E., Boise Meridian, Idaho, was accepted November 7, 2002.

The plat of the dependent resurvey of portions of the west boundary, subdivisional lines, certain mineral surveys in sections 17, 18, 19, 20, 21, 28, and 29, and mineral segregation survey of the Elvin lode claim in section 17, now designated as lot 8, section 17, and the subdivision of section 17, and the survey of a portion of the subdivisional lines, in T. 13 N., R. 27 E., Boise Meridian, Idaho, was accepted November 13, 2002.

This survey was executed at the request of the U.S.D.A. Forest Service for administrative management purposes. The land surveyed is:

The plat representing the dependent resurvey of a portion of the subdivisional lines, and the subdivision of sections 14, 23, and 24, in T. 7 S., R. 34 E., Boise Meridian, Idaho, was accepted December 5, 2002.

Dated: January 7, 2003.
Duane E. Olsen,
Chief Cadastral Surveyor for Idaho.

[FR Doc. 03-570 Filed 1-10-03; 8:45 am]

BILLING CODE 4310-GG-P